OFFICE OF MANAGEMENT AND BUDGET

Audits of States, Local Governments, and Non-Profit Organizations; Circular A-133 Compliance Supplement

AGENCY: Executive Office of the President, Office of Management and Budget.

ACTION: Notice of availability of the 2004 Circular A-133 Compliance Supplement.

SUMMARY: On April 17, 2003 (68 FR 19039), the Office of Management and Budget (OMB) issued a notice of availability of the 2003 Circular A-133 Compliance Supplement (Supplement). The notice also offered interested parties an opportunity to comment on the 2003 Supplement. This notice announces the availability of the 2004 Supplement. The 2004 Supplement adds three programs, deletes three programs, updates for program changes, and makes technical corrections. A list of changes from the 2003 Supplement can be found at Appendix V of the 2004 Supplement. Due to its length, the 2004 Supplement is not included in this notice. See Addresses for information about how to obtain a copy. This notice also offers interested parties an opportunity to comment on the 2004 Supplement.

DATES: The 2004 Supplement will apply to audits performed under OMB Circular A-133, Audits of States, Local Governments, and Non-Profit Organizations, of fiscal years beginning after June 30, 2003 and supersedes the 2003 Supplement. All comments on the 2004 Supplement must be in writing and received by October 29, 2004. Late comments will be considered to the extent practicable.

ADDRESSES: Copies of the 2004 Supplement may be purchased at any Government Printing Office (GPO) bookstore (stock number: 041-001-00604-4) at a cost of $73.00. The main GPO bookstore is located at 710 North Capitol Street, NW., Washington, DC 20401, (202) 512-0132. A copy may also be obtained under the “Grants Management” heading from the OMB home page on the Internet, which is located at http://www.omb.gov/, and then select “Circulars—Audit Requirements—A-133.”

Due to potential delays in OMB's receipt and processing of mail sent through the U.S. Postal Service, we encourage respondents to submit comments electronically to ensure timely receipt. We cannot guarantee that comments mailed will be received before the comment closing date.

Electronic mail comments may be submitted to Hai_M._Tran@omb.eop.gov. Please include “A-133 Compliance Supplement—2004” in the subject line and the full body of your comments in the text of the electronic message and as an attachment. Please include your name, title, organization, postal address, telephone number, and E-mail address in the text of the message. Comments may also be submitted via facsimile to 202-395-3952. Comments may be mailed to Gilbert Tran, Office of Federal Financial Management, Office of Management and Budget, Room 6025, New Executive Office Building, Washington, DC 20503.

FOR FURTHER INFORMATION CONTACT: Recipients should contact their cognizant or oversight agency for audit, or Federal awarding agency, as appropriate under the circumstances. Subrecipients should contact their pass-through entity. Federal agencies should contact Gilbert Tran, Office of Management and Budget, Office of Federal Financial Management, telephone (202) 395-3993.

SUPPLEMENTARY INFORMATION: The Office of Management and Budget (OMB) received three comment letters on the 2003 Supplement. The comment letters dealt with various technical issues and changes were made where appropriate.

Linda M. Springer,
Controller.

[FR Doc. 04-9799 Filed 4-29-04; 8:45 am]

BILLING CODE 3110-01-P